NATIONAL WOMEN'S BUSINESS COUNCIL

Notice of Public Meeting

In accordance with the Women's Business Ownership Act, Public Law 106-554 as amended, the National Women's Business Council (NWBC) would like to announce a forthcoming Council meeting. The meeting will introduce the National Women's Business Council's agenda and action items for fiscal year 2003 included by not limited to procurement, access to capital, access to training and technical assistance, access to markets and affordable health care.

DATES: June 19, 2003.

ADDRESSES: U.S. Small Business Administration, 409 Third Street, SW, Eisenhower Conference Room B, 2nd Floor, Washington, DC.

Time: 9 a.m. to 1 p.m.

Status: Open to the public. Attendance by RSVP only.

FOR FURTHER INFORMATION CONTACT: National Women's Business Council, 202/205-6695—Gilda Presley.

Anyone wishing to attend and make an oral presentation at the meeting must contact Gilda Presley, no later than Monday, June 6, 2003 at 202/205-6695.

Candace Stoltz,
Director of Advisory Councils.

[FR Doc. 03-13765 Filed 5-28-03; 4:28 pm]

BILLING CODE 8025-01-P